DEPARTMENT OF COMMERCE

International Trade Administration

[ITA-2010-0006]

Government Programs to Assist Businesses Protect Their Intellectual Property Rights (IPR) in Foreign Markets; Notice of Extension of Comment Period

AGENCY: Office of Intellectual Property Rights, International Trade Administration, Department of Commerce.

ACTION: Notice of Extension of Comment Period.

SUMMARY: The International Trade Administration (ITA) of the U.S. Department of Commerce issued a request for written submissions in the Federal Register of September 30, 2010 (ITA-2010-0006) concerning government programs for protecting the intellectual property rights of U.S. businesses in foreign markets. See 75 FR 60408, Sep. 30, 2010. The agency is conducting a comprehensive review of existing U.S. efforts and seeks public input. This document extends the comment period from October 29, 2010 to November 29, 2010. Comments may be submitted as instructed in the original Federal Register Notice. See ADDRESSES. ITA is taking this action in response to requests for an extension to allow interested persons additional time to submit comments.

DATES: Submissions must be received on or before Monday, November 29, 2010.

ADDRESSES: All comments should be submitted via the Federal eRulemaking Portal, http://www.regulations.gov, docket number ITA-2010-0006. To submit comments to http://www.regulations.gov, find the docket by entering the number ITA-2010-0006 in the “Enter Keyword or ID” window at the http://www.regulations.gov home page and click “Search.” The site will provide a search-results page listing all documents associated with this docket. Find a reference to this notice by selecting “Notice” under “Document Type” on the left side of the search-results page, and click on the link entitled “Submit a comment.” (For further information on using the http://www.regulations.gov Web site, please consult the resources provided on the Web site by clicking on “How to Use This Site” on the left side of the home page).

The http://www.regulations.gov site provides the option of submitting comments by filling in a “Type comment & Upload file” field, or by attaching a document. Attached documents are preferable. If a document is attached, please type “IPR Assistance Review” in the “Type comment & Upload file” field. Submissions in Microsoft Word (.doc) or Adobe Acrobat (.pdf) are preferred. If the submission is in an application other than those two, please indicate the name of the application in the “Comments” field. Submissions must be in English.

FOR FURTHER INFORMATION CONTACT: For questions on the submission of comments, please contact Christine Peterson at (202) 482-1432 or Andrea Cornwell at (202) 482-0998.

Publication and Confidential Information: Submissions filed in response to this request will be made available to the public by posting them on the Internet. For this reason, please do not include in your comments information of a confidential nature, such as sensitive personal information or proprietary information. If you have confidential business information that would support your recommendation or that you believe would help the U.S. Government formulate an effective enforcement strategy, please let us know, and we may request that additional information.

SUPPLEMENTARY INFORMATION: In the Federal Register of September 30, 2010, ITA published a notice for request for comments with a 30-day comment period. The Agency received and considered requests for an extension of the comment period and extended the comment period for 30 days until November 29, 2010. The text of the original notice appears below.

The Department of Commerce invites public input and participation in shaping government programs for protecting the intellectual property rights of U.S. businesses, including Small- and Medium-Sized Enterprises (SMEs), in foreign markets. As evidenced by the launch of the President's National Export Initiative, improving U.S. Government support for U.S. business in overseas markets is an Administration priority. Unfortunately, American exporters face various barriers to entry in overseas markets including barriers related to intellectual property rights.

In coordination with the Intellectual Property Enforcement Coordinator (“IPEC”) and to implement certain action items in the 2010 Joint Strategic Plan on Intellectual Property Enforcement submitted to Congress by the IPEC, the Department of Commerce is conducting a comprehensive review of existing U.S. Government efforts to educate, guide, and provide resources to U.S. businesses that are:

1. Acquiring intellectual property rights in foreign markets;

2. Contemplating exporting intellectual property-based products or choosing markets for export;

3. Actively entering foreign markets or facing difficulties entering foreign markets; or

4. Encountering difficulties enforcing their intellectual property rights in foreign markets.

The goal of the review is to improve efforts to support U.S. businesses facing barriers related to intellectual property rights protection and enforcement in overseas markets.

The Department of Commerce is hereby requesting written submissions from the public. In responding, please consider the questions and information requests posed below, but do not limit comments to these areas.

1. Describe your level of familiarity with intellectual property rights in general and intellectual property rights in foreign markets in particular.

2. Identify specific challenges businesses, including SMEs, face in protecting their intellectual property rights abroad.

3. In what countries or regions do businesses need the most assistance protecting their intellectual property rights? In responding please prioritize any countries identified.

4. Which specific types of intellectual property (copyrights, trademarks, patents, trade secrets) present the most challenges to SMEs? Should U.S. government programs focus on specific areas of intellectual property protection?

5. Suggest particular outreach, programs or assistance that the government can provide that would help U.S. businesses overcome those challenges.

6. Describe your familiarity with or use of current U.S. Government services and tools related to IPR protection and enforcement in foreign markets, and assess their usefulness and/or gaps.

7. Assess the adequacy of the intellectual property resources, tools, services and programs that the U.S. government currently provides to SMEs.

8. What specific outreach formats (e.g., conferences, webinars, publications, podcasts) work best for educating U.S. businesses on how to protect their IPR abroad?

9. Identify specific existing programs provided by the U.S. Government or governments of other countries that have been particularly effective at assisting U.S. businesses with protecting their intellectual property rights in foreign markets (including, if possible, specific examples illustrating the effectiveness of those methods).

10. Identify specific existing programs involving cooperation between stakeholders and the U.S. Government (or between stakeholders and other governments) that have been particularly effective at assisting SMEs with the protection of their IP in foreign markets.

11. What additional role(s) should the government play in assisting businesses with the protection of their intellectual property rights abroad?

12. Identify additional resources and tools the U.S. Government could provide to support SMEs as they enforce their intellectual property rights in foreign markets.

13. Identify the most effective and efficient ways to inform U.S. businesses of new and existing government offerings that support U.S. businesses in their efforts to protect their intellectual property abroad.

14. In a recent report by the International Trade Commission, combining resources through trade associations or through less formal groups was one strategy SMEs suggested to reduce trade barriers. Describe ways the government can support SMEs as they pool resources to combat infringement abroad.

It is difficult to overstate the value of intellectual property rights (IPR) to innovation, investment and economic development for U.S. businesses. Intellectual property rights are also critical to our small and medium-sized enterprises (SMEs). The U.S. Chamber of Commerce ¹ estimates that IP-intensive industries employ 18 million Americans, and the Small Business Administration has estimated that SMEs alone employ half of Americans and account for 65 percent ² of new jobs. The theft of IP from SMEs is a serious matter, as it stifles innovation, slows economic growth, weakens the competitiveness of U.S. employers, and threatens American jobs. Intellectual property theft at the hands of foreign companies, consumers, and even governments, has an adverse impact on all IP-based innovation and economic success. SMEs are particularly vulnerable because they are at a distinct disadvantage when confronting these difficulties in foreign markets. The Department of Commerce's priorities include ensuring that intellectual property remains a viable driver or innovation, and that our IP-based industries can compete effectively in the international marketplace. Commerce Bureaus, namely the U.S. Patent and Trademark Office (USPTO) and the International Trade Administration (ITA), work alongside the IPEC and the agencies involved in intellectual property rights enforcement to help businesses secure and enforce intellectual property rights at home and abroad.

¹ Global Intellectual Property Center, Intellectual Property: Creating Jobs, Saving Lives, Improving the World, 2009.

² Karen Mills, Administrator of the U.S. Small Business Administration (SBA), speech at “Jobs on Main Street, Customers Around the World” event hosted by USTR 01-21-10.

To educate and assist all businesses, and SMEs in particular, the Department of Commerce has developed a number of IPR tools and resources. ITA, on behalf of U.S. intellectual property agencies, launched a Web site in 2004 (http://www.stopfakes.gov) to provide updates and links to Executive Branch IPR programs. On the Web site, there are additional resources for businesses such as an online IPR tutorial, which is available in three languages, country-specific IPR toolkits and links to other resources such as the American Bar Association's International IP Advisory Program. The site also allows businesses to file complaints about IPR-related trade problems, which are answered by a trade specialist from ITA. The Department of Commerce also established the 1-866-999-HALT hotline answered by PTO IPR experts, who work with ITA's Office of Intellectual Property Rights (OIPR) to help businesses secure and enforce their IPR through international treaties. Though this list is non-exhaustive, U.S. agencies recognize that there may be additional government tools and support on IPR protection and enforcement that could assist U.S. exporters.

Dated: Monday, November 1, 2010.
Skip Jones,
Deputy Assistant Secretary, Trade Agreements and Compliance, Market Access and Compliance, International Trade Administration, U.S. Department of Commerce.

[FR Doc. 2010-27942 Filed 11-4-10; 8:45 am]

BILLING CODE 3510-DA-P